DEPARTMENT OF ENERGY

Federal Energy Regulatory Commission

[Docket No. RP02-34 -000]

Eastern Shore Natural Gas Company; Notice of Proposed Changes in FERC Gas Tariff

November 6, 2001.

Take notice that on October 31, 2001, Eastern Shore Natural Gas Company (Eastern Shore) tendered for filing as part of its FERC Gas Tariff, Second Revised Volume No. 1, the following revised tariff sheets, with a proposed effective date of December 1, 2001:

Seventh Revised Sheet No. 5

Sixth Revised Sheet No. 6

Sixth Revised Sheet No. 7

Eastern Shore states that this rate filing is being made to effectuate changes in the rates applicable to Eastern Shore's transportation services under Rate Schedules FT, ST, T-1 and IT, respectively, in accordance with section 4(d) of the Natural Gas Act, 15 U.S.C. 717c(d), and subpart C of part 154 of the Commission's regulations thereunder, 18 CFR part 154, subpart C. The rate changes are expected to increase revenues derived from firm transportation services by $836,595 when compared with the tariff rates currently in effect.

Eastern Shore states that this filing is being made in compliance with the requirements of Article XII of the August 1, 1997 Stipulation and Agreement (S & A) in Docket Nos. CP96-128-000, CP96-128-001, CP96-128-003, RP97-32-000, RP97-32-001, RP97-32-004, RP97-231-000, RP97-231-001, RP97-231-002, TA98-1-23-000 and TA98-3-23-000 (not consolidated). Such S & A was approved by the Commission in its letter order dated October 15, 1997.

Eastern Shore further states that the proposed rates are based on an overall cost of service of $14,238,063 which reflects actual experience for the twelve months of actual operations for the period ended June 30, 2001, adjusted for known and measurable changes anticipated to occur during the nine-month adjustment period ending March 31, 2002. The rate base for Eastern Shore's system as of March 31, 2002, adjusted for known and measurable changes through such date, is $43,431,243. The cost of service also reflects an overall rate of return of 11.94 percent, consisting of a cost of debt of 7.88 percent and a return on common equity of 14.75 percent utilizing a test period capital structure of 40.90 percent debt and 59.10 percent common equity. The depreciation expense component of Eastern Shore's cost of service reflects the same depreciation rates utilized in its prior rate proceeding.

Eastern Shore states that copies of the filing have been served upon its customers and interested State Commissions.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-28292 Filed 11-9-01; 8:45 am]

BILLING CODE 6717-01-P